DEPARTMENT OF EDUCATION

Applications for New Awards; Rural Postsecondary and Economic Development Grant Program; Corrections

AGENCY: Office of Postsecondary Education, Department of Education.

ACTION: Notice; corrections.

SUMMARY: On November 5, 2021, the Department of Education (Department) published in the Federal Register a notice inviting applications (NIA) for new awards for fiscal year (FY) 2021 for the Rural Postsecondary and Economic Development (RPED) Grant Program, Assistance Listing Number 84.116W. We are amending the NIA to include as eligible applicants public and private non-profit organizations and agencies that partner with institutions of higher education (IHEs) and to make associated changes to performance measure 2. In addition, we are extending the deadline for transmittal of applications until December 13, 2021.

DATES: Deadline for Transmittal of Applications: December 13, 2021.

FOR FURTHER INFORMATION CONTACT: Kurrinn Abrams, U.S. Department of Education, 400 Maryland Avenue SW, Washington, DC 20202-4260. Telephone: (202) 453-7906. Email: kurrinn.abrams2@ed.gov.

If you use a telecommunications device for the deaf (TDD) or a text telephone (TTY), call the Federal Relay Service (FRS), toll free, at 1-800-877-8339.

SUPPLEMENTARY INFORMATION: On November 5, 2021, we published in the Federal Register the NIA for the FY 2021 RPED Grant Program (86 FR 61193). The application deadline in the NIA was December 6, 2021. We are amending the NIA to include as eligible applicants public and private non-profit organizations and agencies that partner with IHEs and to make corresponding changes to performance measure 2. In addition, we are extending the deadline for transmittal of applications until December 13, 2021. All other requirements and conditions stated in the NIA remain the same.

Corrections

In FR Document 2021-24361 appearing on page 61193 of the Federal Register of November 5, 2021, we make the following amendments:

1. On page 61193, in the second column, under the Dates caption and following the heading “Deadline for Transmittal of Applications”, remove “December 6, 2021” and add in its place “December 13, 2021”.

2. On page 61195, in the second column, in the “Eligiblity Information” section, at the end of the paragraph following the heading “Eligible Applicants”, add “, and public and private non-profit organizations and agencies that partner with such IHEs”.

3. On page 61197, in the third column, in the second line of the second paragraph, add “and/or partner” after “grantee”.

Program Authority: 20 U.S.C. 1138-1138d; Departments of Labor, Health and Human Services, and Education and Related Agencies Appropriations Act, 2021, H.R. 7614, 116th Congress (2020); the explanatory statement accompanying H.R. 133 (Pub. L. 116-260).

Accessible Format: On request to the contact person listed under FOR FURTHER INFORMATION CONTACT, individuals with disabilities can obtain this document, the NIA, and a copy of the application in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Michele Asha Cooper,
Deputy Assistant Secretary for Higher Education Programs, Delegated the Authority to Perform the Functions and Duties of the Assistant Secretary, Office of Postsecondary Education.

[FR Doc. 2021-25332 Filed 11-18-21; 8:45 am]

BILLING CODE 4000-01-P